Title 3—

The President

Proclamation 8130 of April 20, 2007

National Crime Victims' Rights Week, 2007

By the President of the United States of America

A Proclamation

National Crime Victims' Rights Week is an opportunity to underscore our commitment to protecting the rights of crime victims and to recognize those who bring hope and healing to these individuals and their families. During this week, we especially remember and mourn the victims of the senseless acts of violence at Virginia Tech. A grieving Nation honors the innocent lives lost in this tragedy, and we pray for the families of the victims.

My Administration is committed to helping safeguard our communities and to ensuring that the rights of those who have been victimized by crime are protected. My Family Justice Center Initiative, announced in 2003, is now providing assistance and services for victims of domestic violence at centers nationwide. Additionally, last year I signed into law the Adam Walsh Child Protection and Safety Act of 2006, which helps protect our youth by increasing the penalties for crimes against children and creating a National Child Abuse Registry. My Administration also supports a Crime Victims' Rights Amendment to the Constitution to further protect the basic rights of crime victims.

During National Crime Victims' Rights Week and throughout the year, we remember and are grateful to our Nation's victim service providers, volunteers, law enforcement, and community organizations that support victims of crime through their commitment and compassion. To find out more information about victims' rights and volunteer opportunities, individuals may visit www.crimevictims.gov. Together, we can help ensure that crime victims have the rights and protections they deserve.

NOW, THEREFORE I, GEORGE W. BUSH, President of the United States of America, by virtue of the authority vested in me by the Constitution and laws of the United States, do hereby proclaim April 22 through April 28, 2007, as National Crime Victims' Rights Week. I encourage all Americans to help raise awareness and promote the cause of victims' rights in their communities.

IN WITNESS WHEREOF, I have hereunto set my hand this twentieth day of April, in the year of our Lord two thousand seven, and of the Independence of the United States of America the two hundred and thirty-first.

[FR Doc. 07-2066

Filed 4-24-07; 8:52 am]

Billing code 3195-01-P